DEPARTMENT OF JUSTICE

Notice of Lodging of Consent Decree Pursuant to the Clean Water Act

In accordance with 28 CFR 50.7, the Department of Justice gives notice that a proposed consent decree in United States v. Town of Greenwich, No. 01-CV-2424 (D. Conn.), was lodged with the United States District Court for the District of Connecticut on December 27, 2001, pertaining to the payment of a civil penalty and injunctive relief, in connection with the Town of Greenwich's (Town) violations of the Clean Water Act (CWA), 33 U.S.C. 1251 et seq., and National Pollution Discharge Elimination System (NPDES) permit, issued to the Town under the CWA.

Under the proposed consent decree, the Town will pay a civil penalty of $285,000, to be shared equally between the United States and the State of Connecticut, a co-plaintiff in the case, and will perform injunctive relief to evaluate and rehabilitate its wastewater collection, storage, and transmission system. The Consent Decree includes a release of claims alleged in the complaint.

The Department of Justice will receive, for a period of thirty (30) days from the date of this publication, comments relating to the proposed consent decree. Comments should be addressed to the Assistant Attorney General, Environment and Natural Resource Division, United States Department of Justice, Washington, DC 20530, and should refer to United States v. Town of Greenwich, No. 01-CV-2424 (D. Conn.), and DOJ Reference No. 90-5-1-1-06717.

The proposed consent decree may be examined at: (1) the Office of the United States Attorney for the District of Connecticut, 157 Church St., 23rd floor, New Haven, Connecticut 06510, (203) 821-3700; and (2) the United States Environmental Protection Agency (Region 1), One Congress Street, Boston, MA 02114 (contact Karen McGuire in the Office of Regional Counsel). A copy of the proposed consent decree may be obtained by mail from the Consent Decree Library, PO Box 7611, Washington, DC 20044. In requesting a copy, please refer to the referenced case and DOJ Reference Number and enclose a check in the amount of $20.75 (with attachments) or $8.50 (without attachments) (83 pages with attachments or 34 pages without attachments at 25 cents per page reproduction costs), made payable to the Consent Decree Library.

Ronald G. Gluck,
Assistant Chief, Environmental Enforcement Section, Environment and Natural Resources Division.

[FR Doc. 02-1115 Filed 1-15-02; 8:45 am]

BILLING CODE 4410-15-M